DEPARTMENT OF STATE

[Public Notice 3682]

Shipping Coordinating Committee; Notice of Meeting

The Shipping Coordinating Committee will conduct an open meeting at 9 a.m. on Thursday, 20 September 2001, in Room 2415 at U.S. Coast Guard Headquarters, 2100 Second Street, SW., Washington, DC.

The purpose of this meeting will be to review the U.S. positions on the draft International Convention on the Control of Harmful Anti-fouling Systems to be considered at the International Conference on the Control of Harmful Anti-fouling Systems for Ships (AFS Conference) to be held at the International Maritime Organization headquarters in London, 1-5 October, 2001.

Documents associated with the AFS Conference may be requested by writing to the address below or via the Internet at: http://www.uscg.mil/hq/g-m/mso/mso4/mepc.html. Please note that hard copies of documents associated with this Conference will not be available at this meeting.

Members of the public are invited to attend this meeting up to the seating capacity of the room. For further information, or to submit views in advance of the meeting, please contact Lieutenant Beck, U.S. Coast Guard, Environmental Standards Division (G-MSO-4), 2100 Second Street, SW., Washington, DC 20593-0001; telephone: (202) 267-0713; fax: (202) 267-4690; or e-mail: dbeck@comdt.uscg.mil.

Dated: July 31, 2001.
Stephen M. Miller,
Executive Secretary, Shipping Coordinating Committee, Department of State.

[FR Doc. 01-19605 Filed 8-3-01; 8:45 am]

BILLING CODE 4710-07-P